DEPARTMENT OF HOMELAND SECURITY

Coast Guard

33 CFR Part 165

[Docket No. USCG-2014-0492]

Safety Zone; Portland Dragon Boat Races, Portland, Oregon

AGENCY: Coast Guard, DHS.

ACTION: Notice of enforcement of regulation.

SUMMARY: The Coast Guard will enforce the Portland Dragon Boat Races Safety Zone from 8 a.m. until 6 p.m. on September 12, 2015 and 8 a.m. until 6 p.m. on September 13, 2015. This action is necessary to ensure the safety of maritime traffic, including the public vessels present, on the Willamette River during the Portland Dragon Boat Races. During the enforcement period, no person or vessel may enter or remain in the safety zone without permission from the Sector Columbia River Captain of the Port.

DATES: The regulations in 33 CFR 165.1341 will be enforced from 8 a.m. until 6 p.m. on September 12, 2015 and 8 a.m. until 6 p.m. on September 13, 2015.

FOR FURTHER INFORMATION CONTACT: If you have questions on this notice, call or email Mr. Ken Lawrenson, Waterways Management Division, MSU Portland, Oregon, Coast Guard; telephone 503-240-9319, email MSUPDXWWM@uscg.mil.

SUPPLEMENTARY INFORMATION:

The Coast Guard will enforce the safety zone regulation for the Portland Dragon Boat Races detailed in 33 CFR 165.1341 during the dates and times listed in DATES.

Under the provisions of 33 CFR 165.1341 and 33 CFR 165 Subpart D, no person or vessel may enter or remain in the safety zone without permission from the Sector Columbia River Captain of the Port. Persons or vessels wishing to enter the safety zone may request permission to do so from the on scene Captain of the Port representative via VHF Channel 16 or 13. The Coast Guard may be assisted by other Federal, State, or local enforcement agencies in enforcing this regulation.

This document is issued under authority of 33 CFR 100.1302 and 5 U.S.C. 552(a). In addition to this notice in the Federal Register, the Coast Guard will provide the maritime community with notification of this enforcement period via the Local Notice to Mariners.

Dated: August 12, 2015.
D.J. Travers,
Captain, U.S. Coast Guard, Captain of the Port, Sector Columbia River.

[FR Doc. 2015-21947 Filed 9-2-15; 8:45 am]

BILLING CODE 9110-04-P